DEPARTMENT OF HEALTH AND HUMAN SERVICES

Administration for Community Living

President's Committee for People with Intellectual Disabilities; Committee Meeting via Conference Call

AGENCY: Administration for Community Living (ACL), HHS.

ACTION: Notice.

DATES: Thursday, August 09, 2012, from 1:00 p.m. to 2:30 p.m. e.s.t., via audio conferencing. This meeting will be open to the public.

Details for public access to the Committee Conference Call are cited below:

Toll Free Dial-In Number: 888-989-0724.

Pass Code: 1939592.

Individuals whose full participation in the meeting will require special accommodations (e.g., sign language interpreting services, assistive listening devices, materials in alternative format such as large print or Braille) should notify PCPID Policy Analyst, Madjid (MJ) Karimi, via email at MJ.Karimie@acf.hhs.gov, or via telephone at 202-619-0634. Special accommodations needed must be received no later than Friday, August 03, 2012. PCPID will attempt to meet requests for accommodations made after that date, but cannot guarantee ability to grant requests received after this deadline.

Agenda: Discussion plans for developing the PCPID 2012 Report to the President.

Additional Information: For further information, please contact Laverdia Taylor Roach, Senior Advisor, President's Committee for People with Intellectual Disabilities, The Aerospace Center, Second Floor West, 370 L'Enfant Promenade SW., Washington, DC 20447. Telephone: 202-619-0634. Fax: 202-205-9519. Email: Laverdia.Roach@acf.hhs.gov.

SUPPLEMENTARY INFORMATION: PCPID acts in an advisory capacity to the President and the Secretary of Health and Human Services, through the Administration on Intellectual and Developmental Disabilities, on a broad range of topics relating to programs, services, and supports for persons with intellectual disabilities. The PCPID Executive Order stipulates that the Committee shall: (1) Provide such advice concerning intellectual disabilities as the President or the Secretary of Health and Human Services may request; and (2) provide advice to the President concerning the following for people with intellectual disabilities: (a) Expansion of educational opportunities; (b) promotion of homeownership; (c) assurance of workplace integration; (d) improvement of transportation options; (e) expansion of full access to community living; and (f) increasing access to assistive and universally designed technologies.

Dated: July 6, 2012.
Sharon Lewis,
Commissioner, Administration on Intellectual and Developmental Disabilities.

[FR Doc. 2012-17450 Filed 7-20-12; 8:45 am]

BILLING CODE 4184-01-P